DEPARTMENT OF TRANSPORTATION

Federal Railroad Administration

[Docket No. FRA-2000-7257, Notice No. 96]

Railroad Safety Advisory Committee; Notice of Meeting

AGENCY: Federal Railroad Administration (FRA), Department of Transportation (DOT).

ACTION: Notice of public meeting.

SUMMARY: FRA announces the sixty-seventh meeting of the Railroad Safety Advisory Committee (RSAC or Committee), a Federal Advisory Committee that provides advice and recommendations to FRA on railroad safety matters through a consensus process. This meeting of the RSAC will focus on efforts critical to railroad safety including safety improvements in the wake of the February 3, 2023, East Palestine, Ohio, derailment, electronic devices, remote control operations, and roadway worker protection.

DATES: The RSAC meeting is scheduled for Wednesday, October 9, 2024. The meeting will commence at 8:30 a.m. and will adjourn by 4:30 p.m. (all times eastern daylight savings time). Requests to submit written materials to be reviewed during the meeting must be received by September 29, 2024. Requests for accommodations because of a disability must be received by September 29, 2024.

ADDRESSES: The RSAC meeting will be held at the National Association of Home Builders, located at 1201 15th Street NW, Washington, DC 20005. Please see the RSAC website for additional information on the committee at https://rsac.fra.dot.gov/.

FOR FURTHER INFORMATION CONTACT: Mr. Kenton Kilgore, RSAC Designated Federal Officer/RSAC Coordinator, FRA Office of Railroad Safety, (202) 365-3724 or kenton.kilgore@dot.gov. Any Committee-related request should be sent to Mr. Kilgore.

SUPPLEMENTARY INFORMATION: Pursuant to section 10(a)(2) of the Federal Advisory Committee Act (Pub. L. 92-463), FRA is giving notice of a meeting of the RSAC. RSAC is composed of 51 voting representatives from 26 member organizations, representing various rail industry perspectives. The diversity of the Committee ensures the requisite range of views and expertise necessary to discharge its responsibilities.

Public Participation: The meeting is open to the public. Attendance is on a first-come, first served basis, and is accessible to individuals with disabilities. DOT and FRA are committed to providing equal access to this meeting for all participants. If you need alternative formats or services because of a disability, please contact Mr. Kenton Kilgore as listed in the FOR FURTHER INFORMATION CONTACT section and submit your request by September 29, 2024. Any member of the public may submit a written statement to the Committee at any time. If a member of the public wants to submit written materials to be reviewed by the Committee during the meeting, it must be received by September 29, 2024.

Agenda Summary: This meeting of the RSAC will include updates from the working groups for train braking modernization and wayside detectors, which were formed in response to the February 3, 2023, Norfolk Southern freight train derailment in East Palestine, Ohio. Working groups for Confidential Close Call Reporting and roadway worker protection will also report to the Committee on their activities. A final agenda will be posted on the RSAC website at https://rsac.fra.dot.gov/ at least one week in advance of the meeting.

Issued in Washington, DC.
Amitabha Bose,
Administrator.

[FR Doc. 2024-19905 Filed 9-4-24; 8:45 am]

BILLING CODE 4910-06-P